DEPARTMENT OF TRANSPORTATION

Federal Aviation Administration

14 CFR Part 39

[Docket No. FAA-2007-0108; Directorate Identifier 2001-NE-15-AD; Amendment 39-15270; AD 2007-24-04]

RIN 2120-AA64

Airworthiness Directives; CFM International, S.A. CFM56-5C4/1 Series Turbofan Engines

AGENCY: Federal Aviation Administration (FAA), Department of Transportation (DOT).

ACTION: Final rule; request for comments.

SUMMARY: The FAA is superseding an existing airworthiness directive (AD) for CFM International, S.A. CFM56-5C4/1 series turbofan engines. That AD currently requires that the low pressure turbine (LPT) conical support, part number (P/N) 337-002-407-0, be removed from service at or before reaching the cyclic life limit of 9,350 cycles-since-new (CSN). This AD requires that the same P/N LPT conical support be removed from service before reaching the new, relaxed cyclic life limit of 20,000 CSN. This AD results from CFM International, S.A. performing a life extension study of the LPT conical support, P/N 337-002-407-0. We are issuing this AD to prevent LPT conical supports from remaining in service beyond their certified cyclic life limit, which could result in an uncontained engine failure and damage to the airplane.

DATES: Effective December 6, 2007.

We must receive any comments on this AD by January 22, 2008.

ADDRESSES: Use one of the following addresses to comment on this AD:

• Federal eRulemaking Portal: Go to http://www.regulations.gov and follow the instructions for sending your comments electronically.

• Mail: U.S. Docket Management Facility, Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Stephen Sheely, Aerospace Engineer, Engine Certification Office, FAA, Engine and Propeller Directorate, 12 New England Executive Park, Burlington, MA 01803; e-mail: stephen.k.sheely@faa.gov; telephone (781) 238-7750; fax (781) 238-7199.

SUPPLEMENTARY INFORMATION: On August 15, 2001, we issued AD 2001-17-14, Amendment 39-12405 (66 FR 44297, August 23, 2001). That AD requires that the CFM56-5C4/1 series turbofan engine LPT conical support, P/N 337-002-407-0, be removed from service at or before reaching the cyclic life limit of 9,350 CSN. That AD was the result of the discovery of an error in the Time Limits Section of Chapter 5 of the CFM56-5C Engine Shop Manual. The manual incorrectly listed the published cyclic life limit of the CFM56-5C4/1 turbofan engine LPT conical support, P/N 337-002-407-0, as 15,000 CSN, rather than the certified value of 9,350 CSN.

Actions Since We Issued AD 2001-17-14

Since we issued AD 2001-17-14, CFM International, S.A. performed a life extension study of the CFM56-5C4/1 engine LPT conical support, P/N 337-002-407-0. The results of the study show that the calculated cyclic life limit is above 20,000 CSN. Based on the study, CFM International, S.A. has now established a relaxed certified cyclic life limit of 20,000 CSN for this part.

FAA's Determination and Requirements of This AD

Although no airplanes that are registered in the United States use these CFM56-5C4/1 turbofan engines, the possibility exists that the engines could be used on airplanes that are registered in the United States in the future. The unsafe condition described previously is likely to exist or develop on other turbofan engines of the same type design. We are issuing this AD to prevent LPT conical supports from remaining in service beyond their certified cyclic life limit, which could result in an uncontained engine failure and damage to the airplane. This AD requires that the CFM56-5C4/1 series turbofan engine LPT conical support, P/N 337-002-407-0, be removed from service at or before reaching the new, relaxed cyclic life limit of 20,000 CSN.

Applicability Paragraph Correction

In AD 2001-17-14, we incorrectly stated that the engines were installed on, but not limited to, Airbus A320 series airplanes. In this AD we corrected the airplane model to A340 series airplanes.

FAA's Determination of the Effective Date

Since there are currently no domestic operators of this engine model, notice and opportunity for public comment before issuing this AD are unnecessary. Therefore, a situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2007-0108; Directorate Identifier 2001-NE-15-AD” in the subject line of your comments. We specifically invite comments on the overall regulatory, economic, environmental, and energy aspects of the rule that might suggest a need to modify it.

We will post all comments we receive, without change, to http://www.regulations.gov, including any personal information you provide. We will also post a report summarizing each substantive verbal contact with FAA personnel concerning this AD. Using the search function of the Federal Docket Management System Web site, anyone can find and read the comments in any of our dockets, including the name of the individual who sent the comment (or signed the comment on behalf of an association, business, labor union, etc). You may review the DOT's complete Privacy Act Statement in the Federal Register published on April 11, 2000 (65 FR 19477-19478).

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the same as the Mail address provided in the ADDRESSES section. Comments will be available in the AD docket shortly after receipt.

Docket Number Change

We are transferring the docket for this AD to the Federal Docket Management System as part of our on-going docket management consolidation efforts. The new Docket No. is FAA-2007-0108. The old Docket No. became the Directorate Identifier, which is 2001-NE-15-AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-12405 (66 FR 44297, August 23, 2001), and by adding a new airworthiness directive, Amendment 39-15270, to read as follows:

2007-24-04 CFM International, S.A.: Amendment 39-15270. Docket No. FAA-2007-0108; Directorate Identifier 2001-NE-15-AD.

Effective Date

(a) This airworthiness directive (AD) becomes effective December 6, 2007.

Affected ADs

(b) This AD supersedes AD 2001-17-14, Amendment 39-12405.

Applicability

(c) This AD applies to CFM International, S.A. CFM56-5C4/1 series turbofan engines with low pressure turbine (LPT) conical support, part number (P/N) 337-002-407-0, installed. These engines are installed on, but not limited to, Airbus A340 series airplanes.

Unsafe Condition

(d) This AD results from CFM International, S.A. performing a life extension study of the LPT conical support, P/N 337-002-407-0. We are issuing this AD to prevent LPT conical supports from remaining in service beyond their certified cyclic life limit, which could result in an uncontained engine failure and damage to the airplane.

Compliance

(e) You are responsible for having the actions required by this AD performed within the compliance times specified unless the actions have already been done.

(f) Remove LPT conical support, P/N 337-002-407-0, at or before accumulating 20,000 cycles-since-new (CSN) and replace with a serviceable part.

(g) After the effective date of this AD, do not install any LPT conical support, P/N 337-002-407-0, with 20,000 or more CSN, into CFM56-5C4/1 series turbofan engines.

Alternative Methods of Compliance

(h) The Manager, Engine Certification Office, has the authority to approve alternative methods of compliance for this AD if requested using the procedures found in 14 CFR 39.19.

Material Incorporated by Reference

(i) None.

Related Information

(j) Contact Stephen Sheely, Aerospace Engineer, Engine Certification Office, FAA, Engine and Propeller Directorate, 12 New England Executive Park, Burlington, MA 01803; e-mail: stephen.k.sheely@faa.gov; telephone (781) 238-7750; fax (781) 238-7199, for more information about this AD.

Issued in Burlington, Massachusetts, on November 14, 2007.
Peter A. White,
Assistant Manager, Engine and Propeller Directorate, Aircraft Certification Service.

[FR Doc. E7-22647 Filed 11-20-07; 8:45 am]

BILLING CODE 4910-13-P